DEPARTMENT OF HOMELAND SECURITY

Bureau of Customs and Border Protection

Modification of the National Customs Automation Program Test Regarding Reconciliation

AGENCY: Customs and Border Protection, Homeland Security.

ACTION: General notice.

SUMMARY: This document modifies the Customs and Border Protection Automated Commercial System Reconciliation prototype test by changing the requirement for filing the Reconciliation entry from no later than 15 months to no later than 21 months after the date the importer declares its intent to file the Reconciliation. This change does not apply to Reconciliation entries covering NAFTA or US-CFTA claims. Other than this modification, the test remains the same as set forth in previously published Federal Register notices.

DATES: The test modification set forth in this document is effective on February 9, 2005. The two-year testing period of this Reconciliation prototype commenced on October 1, 1998, and was extended indefinitely starting October 1, 2000. Applications to participate in the test will be accepted throughout the duration of the test.

ADDRESSES: Written inquiries regarding participation in the Reconciliation prototype test and/or applications to participate should be addressed to Mr. Richard Wallio, Reconciliation Team, Bureau of Customs and Border Protection, 1300 Pennsylvania Ave., NW., Room 5.2A, Washington, DC 20229-0001. Inquiries regarding the test may be made by accessing Recon.Help@dhs.gov.

FOR FURTHER INFORMATION CONTACT: Mr. Richard Wallio at (202) 344-2556.

SUPPLEMENTARY INFORMATION:

Background

Initially, it is noted that on November 25, 2002, the President signed the Homeland Security Act of 2002, 6 U.S.C. 101 et seq., Pub. L. 107-296 (the HS Act), establishing the Department of Homeland Security and, under section 403(1) (6 U.S.C. 203(1)), transferring the U.S. Customs Service, including functions of the Secretary of the Treasury relating to the Customs Service, to the new department, effective on March 1, 2003. Also, under the HS Act and the Reorganization Plan Modification for the Department of Homeland Security that was signed on January 30, 2003, the U.S. Customs Service was renamed the Bureau of Customs and Border Protection (CBP). The agency will be referred to by that name in this document, unless reference to the Customs Service (or Customs) is appropriate in a given context.

Reconciliation, a planned component of the National Customs Automation Program (NCAP), as provided for in Title VI (Subtitle B) of the North American Free Trade Agreement Implementation Act (Pub. L. 103-182, 107 State. 2057 (December 8, 1993)), is currently being tested by CBP under the CBP Automated Commercial System (ACS) Prototype Test. Customs initially announced and explained the test in a general notice document published in the Federal Register (63 FR 6257) on February 6, 1998. Clarifications and operational changes were announced in seven subsequent Federal Register notices: 63 FR 44303, published on August 18, 1998; 64 FR 39187, published on July 21, 1999; 64 FR 73121, published on December 29, 1999; 66 FR 14619, published on March 13, 2001, 67 FR 61200, published on September 27, 2002, 67 FR 68238, published on November 8, 2002, and 69 FR 73730, published on September 2, 2004. A Federal Register (65 FR 55326) notice published on September 13, 2000, extended the prototype indefinitely.

For application requirements, see the Federal Register notices published on February 6, 1998, and August 18, 1998. For additional information regarding the test, see http://www.customs.gov/xp/cgov/import/cargo_summary/.

Reconciliation Generally

Reconciliation is the process that allows an importer, at the time an entry summary is filed, to identify undeterminable information (other than that affecting admissibility) to CBP and to provide that outstanding information at a later date. The importer identifies the outstanding information by means of an electronic “flag” which is placed on the entry summary at the time the entry summary is filed. The issues for which an entry summary may be “flagged” (for the purpose of later reconciliation) are limited and relate to: (1) Value issues; (2) classification issues, on a limited basis; (3) issues concerning value aspects of entries filed under heading 9802, Harmonized Tariff Schedule of the United States (HTSUS; 9802 issues); and (4) post-entry claims under 19 U.S.C. 1520(d) for the benefits of the North American Free Trade Agreement (NAFTA) or the United States-Chile Free Trade Agreement (US-CFTA) for merchandise as to which such claims were not made at the time of entry.

The flagged entry summary (the underlying entry summary) is liquidated for all aspects of the entry except those issues that were flagged. The means of providing the outstanding information at a later date relative to the flagged issues is through the filing of a Reconciliation entry. Thus, the flagging of an entry summary constitutes the importer's declaration of intent to file a Reconciliation entry. The flagged issues will be liquidated at the time the Reconciliation entry is liquidated. Any adjustments in duties, taxes, and/or fees owed will be made at that time. (The Reconciliation test procedure for making post-entry NAFTA claims, also applicable to US-CFTA claims, is explained in the February 6, 1998, and December 29, 1999, Federal Register notices.)

Test Modification

On December 3, 2004, the Miscellaneous Trade and Technical Corrections Act of 2004 (the Act; Pub. L. 108-429) was signed into law. Section 2101 of the Act amended 19 U.S.C. 1484(b)(1) to change the requirement for filing a Reconciliation entry from not later than 15 months to not later than 21 months after the date the importer declares its intent to file the Reconciliation (date the entry summary is flagged which is the date of its filing). Based on this change, CBP is modifying the ACS Reconciliation prototype test by changing the requirement for filing the Reconciliation entry, except those covering NAFTA or US-CFTA issues, from no later than 15 months to no later than 21 months after the date the importer declares its intent to file the Reconciliation. All other aspects of the test remain the same.

The change to the test announced in this document is effective 30 days after the date this notice is published in the Federal Register. Thus, under the test, on and after the effective date, Reconciliation entries covering most Reconciliation issues (those having to do with value, classification, or 9802 issues) must be filed as follows: (1) If the dates of entry relative to the flagged entry summaries covered by the Reconciliation entry fall on or after the effective date of this change, the Reconciliation entry must be filed no later than 21 months after the oldest entry summary date; (2) if the dates of entry relative to the flagged entry summaries covered predate the effective date, the Reconciliation entry must be filed no later than 15 months after the oldest entry summary date; and (3) where the dates of entry relative to the flagged entry summaries covered are a mixture of (1) and (2) above, the Reconciliation entry must be filed no later than 15 months after the oldest entry summary date. (CBP notes that the entry summary date for a given entry of merchandise is always either the same as or later than the entry date.)

The filing of Reconciliation entries for 520(d) Reconciliation (relative to NAFTA and US-CFTA claims) is still required no later than 12 months after the oldest date of entry (date of import) applicable to the flagged entry summaries covered. This requirement has not changed.

Dated: January 4, 2005.
Jayson P. Ahern,
Assistant Commissioner, Office of Field Operations.

[FR Doc. 05-402 Filed 1-7-05; 8:45 am]

BILLING CODE 4820-02-P